DEPARTMENT OF THE INTERIOR

Bureau of Land Management

[LLNMF01000 L13110000.PP0000 14XL1109PF]

Notice of Public Meeting, Farmington District Resource Advisory Council Meeting, New Mexico

AGENCY: Bureau of Land Management, Interior.

ACTION: Notice of public meeting.

SUMMARY: In accordance with the Federal Land Policy and Management Act and the Federal Advisory Committee Act, the Bureau of Land Management's (BLM) Farmington District Resource Advisory Council (RAC) will meet as indicated below.

DATES: The RAC will meet on February 11 and 12, 2014, at the Farmington District Office, 6251 College Blvd., Suite A, Farmington, NM 87402, from 9 a.m.-4 p.m. The public may send written comments to the RAC at the BLM Farmington District Office, 6251 College Blvd., Suite A, Farmington, NM 87402.

FOR FURTHER INFORMATION CONTACT: Christine Horton, BLM Farmington District Office, 6251 College Blvd., Suite A, Farmington, NM 87402, 505-564-7633. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Farmington District RAC advises the Secretary of the Interior, through the BLM, on a variety of planning and management issues associated with public land management in the BLM's Farmington District. Planned agenda items include: Opening remarks from the BLM Farmington District Manager; the Mancos/Gallup Shale Resource Management Plan Amendment ongoing planning effort; the Glade Run Recreation Area Recreation and Travel Management Plan; Wild horse gathers for the Farmington District; and Taos Field Office planning updates and briefing (including the Río Grande del Norte National Monument Plan, Cebolla Oil and Gas leases, Taos Field Office fuel wood standards, the Dixon Citizens group cell tower appeal, and the Ohkay Owingeh Exchange request). A conference telephone line has been set up for the meeting. Contact Christine Horton at 505-564-7633 at least 2 days before the meeting to reserve a line. Due to a limited number of available lines, the conference line is available on a first-come first-served basis. All RAC meetings are open to the public. On Wednesday, February 12, 2014, at 2 p.m., members of the public will have the opportunity to make comments to the RAC, during an hour-long public comment period. Persons wishing to make comments during the public comment period should register in person with the BLM by 1 p.m. on February 12, 2014, at the meeting location. If you wish to make a comment during the comment period through the conference line, inform Christine Horton when you call to reserve the conference line. Depending on the number of commenters, the length of comments may be limited. The BLM appreciates any and all comments.

Michael H. Tupper,
Deputy State Director, Lands and Resources.

[FR Doc. 2014-00632 Filed 1-14-14; 8:45 am]

BILLING CODE 4310-FB-P